DEPARTMENT OF HEALTH AND HUMAN SERVICES

Centers for Disease Control and Prevention

[60Day-00-43]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC Assistant Reports Clearance Officer, 1600 Clifton Road, MS-D24, Atlanta, GA 30333. Written comments should be received within 60 days of this notice.

Proposed Project

Nursing Homes' Access to Influenza Vaccine and Use of Rapid Influenza Tests and Antivirals—New—National Center for Infectious Diseases (NCID)—Uncontrolled nursing home influenza outbreaks can result in illness in ≥ 60 percent and death in ≥ 10 percent of residents. Vaccine is the primary means to prevent influenza and its complications. However, outbreaks can occur despite high vaccination levels. The use of rapid diagnostic tests and the timely administration of antiviral medications can lessen the impact of influenza outbreaks. In 1998, a study was conducted among nursing homes in 9 states to determine the use of vaccine, rapid influenza tests, and antivirals, amantadine and rimantadine. Since that time, new rapid diagnostic tests and neuraminidase inhibitor antiviral medications have been approved. In addition, a substantial delay in the distribution of influenza vaccine and a possible vaccine shortage are anticipated for the 2000-01 influenza season.

The purpose of this study is to assess nursing homes' access to vaccine in 2000-01, the use of rapid influenza diagnostic tests, and the influenza inhibitor antivirals. A survey will be mailed to a sample of randomly selected nursing homes in the same 9 states surveyed in 1998. The results will be used to evaluate resident and staff vaccination levels and the use of rapid influenza tests and antiviral medications. We will also assess the relationship between access to vaccine and the occurrence of outbreaks. There is no cost to the respondents.

Respondents | Number of respondents | Number of responses per respondent | Avg. burden/ respondents (in hrs) | Total burden
Nursing Home staff | 1017 | 1 | 10/60 | 170

Dated: July 11, 2000.
Nancy Cheal,
Acting Associate Director for Policy, Planning and Evaluation, Centers for Disease Control and Prevention (CDC).

[FR Doc. 00-17982 Filed 7-14-00; 8:45 am]

BILLING CODE 4163-18-P